NUCLEAR REGULATORY COMMISSION

Peer Review Committee for Source Term Modeling

AGENCY: Nuclear Regulatory Commission.

ACTION: Notice of establishment of the Peer Review Committee for Source Term Modeling.

SUMMARY: Pursuant to the Federal Advisory Committee Act of October 6, 1972 (Pub. L., 94-463, Stat. 770-776) the Nuclear Regulatory Commission (NRC) announces the Establishment of the Peer Review Committee for Source Term Modeling. The Nuclear Regulatory Commission has determined that establishment of the Committee is necessary and is in the public interest. The Committee will develop guidance documents on source terms that will assist the NRC in evaluating the impact of specific terrorist activities targeted at a range of spent fuel storage casks and radioactive material (RAM) transport packages, including spent fuel. This action is being taken in accordance with the Federal Advisory Committee Act after consultation with the Committee Management Secretariat, General Services Administration (GSA).

Background:

The committee will serve as an “expert panel” and will be composed of individuals with expertise in structural, nuclear, and thermal engineering, fuel performance and source term evaluations, consequence analyses, weapons and explosives, and transportation of radioactive material. The committee will refine the objectives, define evaluation criteria, develop the methodology, evaluate the scenarios, and write the guidance documents. The work will be based on previous and current studies and experiments, and the expertise of the individuals on the panel. The resulting guidance documents will be based on the qualitative judgments of the panel. A Smaller Expert Task Group will consist of individuals who will have complementary expertise to that of the committee. The Task Group will gather available data needed for the threat evaluations, revise and refine the range of payloads, packages and attack scenarios, provide an initial analysis of the sabotage scenarios and develop preliminary estimates for source terms for the more severe threats. The results of the Task Group will serve as a starting point for the work of the full committee.

The establishment of the Committee was effective on October 10, 2002 with the filing of its charter with the standing committees of Congress having legislative jurisdiction over the NRC, the Library of Congress, and GSA.

FOR FURTHER INFORMATION CONTACT: Andrew L. Bates, Office of the Secretary, Nuclear Regulatory Commission, Washington, DC 20555: Telephone 301-415-1963.

Dated: October 11, 2002.
Andrew L. Bates,
Advisory Committee Management Officer.

[FR Doc. 02-26444 Filed 10-16-02; 8:45 am]

BILLING CODE 7590-01-P